FEDERAL COMMUNICATIONS COMMISSION

47 CFR Part 73

[DA 06-622; MB Docket No. 05-291, RM-11270]

Radio Broadcasting Services; Addis, Eunice and Franklin, LA

AGENCY: Federal Communications Commission.

ACTION: Final rule.

SUMMARY: The Audio Division, at the request of Radio and Investments, Inc., licensee of Station KDDK(FM), Channel 288A, Franklin, Louisiana, deletes Channel 288A at Franklin, Louisiana, from the FM Table of Allotments, allots Channel 288A at Addis, Louisiana, as the community's first local FM service, and modifies the license of Station KDDK(FM) to specify operation on Channel 288A at Addis. With a consensual change in reference coordinates for Station KEUN-FM, Channel 288A, Eunice, Louisiana, to 30-23-25 NL and 92-29-00 WL, Channel 288A can be allotted to Addis, Louisiana, in compliance with the Commission's minimum distance separation requirements with a site restriction of 4.4 km (2.7 miles) southwest of Addis. The coordinates for Channel 288A at Addis, Louisiana, are 30-19-03 North Latitude and 91-17-05 West Longitude.

DATES: Effective May 15, 2006.

FOR FURTHER INFORMATION CONTACT: Deborah Dupont, Media Bureau, (202) 418-2180.

SUPPLEMENTARY INFORMATION: This is a synopsis of the Commission's Report and Order, MB Docket No. 05-291, adopted March 29, 2006, and released March 31, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Louisiana is amended by adding Addis, Channel 288A and by removing Channel 288A at Franklin.

Federal Communications Commission.
John A. Karousos,
Assistant Chief, Audio Division Media Bureau.

[FR Doc. 06-3848 Filed 4-25-06; 8:45 am]

BILLING CODE 6712-01-P